DEPARTMENT OF THE INTERIOR

National Park Service

Notice of Inventory Completion: Robert S. Peabody Museum of Archaeology, Phillips Academy, Andover, MA

AGENCY: National Park Service, Interior.

ACTION: Notice.

Notice is here given in accordance with the Native American Graves Protection and Repatriation Act (NAGPRA), 25 U.S.C. 3003, of the completion of an inventory of human remains and associated funerary objects in the possession of the Robert S. Peabody Museum of Archaeology at Phillips Academy, Andover, MA. The human remains and associated funerary objects were removed from Maricopa County, AZ.

This notice is published as part of the National Park Service's administrative responsibilities under NAGPRA, 25 U.S.C. 3003 (d) (3). The determinations in this notice are the sole responsibility of the museum, institution, or Federal agency that has control of the Native American human remains and associated funerary objects. The National Park Service is not responsible for the determinations in this notice.

A detailed assessment of the human remains was made by Robert S. Peabody Museum of Archaeology professional staff in consultation with representatives of the Ak Chin Indian Community of the Maricopa (Ak Chin) Indian Reservation, Arizona; Gila River Indian Community of the Gila River Indian Reservation, Arizona; Hopi Tribe of Arizona; Navajo Nation of Arizona, New Mexico & Utah; Salt River Pima-Maricopa Indian Community of the Salt River Reservation, Arizona; Tohono O'odham Nation of Arizona; and Zuni Tribe of the Zuni Reservation, New Mexico.

In 1898, human remains representing a minimum of three individuals were removed from Kalfus Ruins, Maricopa County, AZ, by Warren K. Moorehead for Robert S. Peabody, whose collection later became the basis for the Robert S. Peabody Museum of Archaeology at its founding in 1901. No known individuals were identified. The two associated funerary objects are one red and black slipped bowl and one black-on-red cremation jar in which the human remains were found.

Archeological evidence indicates Kalfus Ruins is a classic period Hohokam site in the center of what is commonly known as the heart of Hohokam occupation. Archeological evidence is supported by architectural forms, burial practices, and the associated funerary objects.

In 1898, human remains representing a minimum of three individuals were removed from Ruins Five Miles South of Phoenix, Maricopa County, AZ, by Warren K. Moorehead for Robert S. Peabody. No known individuals were identified. The 109 associated funerary objects are 1 cremation jar, in which the human remains and the other associated funerary objects were found; 4 shark teeth; 1 lot of fragmentary faunal remains, some of which are calcined; 9 unmodified minerals; 1 possible slate palette fragment; 19 unmodified stones; 2 unmodified non-human teeth; 63 modified and unmodified shell fragments; 1 brachiopid fossil; 2 trilobite fossils; 2 crinoid stem fossils; 1 small ceramic cylinder; 1 possible projectile point stem; and 2 chert flakes.

The Ruins Five Miles South of Phoenix site is located in the center of what is commonly known as the heart of Hohokam occupation. Archeological evidence is supported by architectural forms, burial practices, and the associated funerary objects.

In 1898, human remains representing a minimum of one individual were removed from Ruins near Phoenix, Maricopa County, AZ, by Warren K. Moorehead for Robert S. Peabody. No known individual was identified. The 70 associated funerary objects are 8 fragmentary faunal remains, 3 ceramic sherds, and 59 shell fragments some of which are possibly beads.

On an unknown date, human remains representing a minimum of one individual were found in a drawer of material from Southern Arizona which also contained shell beads from the “Ruins about Phoenix” site. It is reasonably believed to be the same site as “Ruins near Phoenix,” which was one of a number of adobe sites outside of Phoenix surveyed and excavated by Warren K. Moorehead in 1898 for Robert S. Peabody. The exact location of the site is unclear. The ledger notes do not mention any human remains found with shell beads. It is likely this tooth was separated from the other human remains from Ruins near Phoenix collected by Mr. Moorehead. No known individual was identified. No associated funerary objects are present.

The Ruins near Phoenix site is located in the center of what is commonly known as the heart of Hohokam occupation. Archeological evidence is supported by architectural forms, burial practices, and the associated funerary objects.

A relationship of shared group identity can be reasonably traced between Hohokam culture, which dates from about A.D. 300 to A.D. 1450, and the Ak Chin Indian Community of the Maricopa (Ak Chin) Indian Reservation, Arizona; Gila River Indian Community of the Gila River Indian Reservation, Arizona; Salt River Pima-Maricopa Indian Community of the Salt River Reservation, Arizona; and Tohono O'odham Nation of Arizona. These four Indian Tribes are one cultural group known as the O'odham (anthropologically known as the Pima and Papago.) The Piipaash (anthropologically known as the Maricopa) are a separate and distinct culture that is present in two of the four tribes. The four groups are separated by political boundaries designated through the adoption/assignment of reservations by the Federal Government, not by any cultural differences.

The O'odham people commonly refer to their ancestors as “the Huhugam.” The term “Huhugam” refers to all of the ancestors from the first of the O'odham people to walk the earth to those who have perished during modern times. The term “Hohokam” is an English adaptation of the word Huhugam, and has become known in the larger society as an archeological culture. The term Huhugam is often mistaken for the word Hohokam, although the terms do not have the same meaning and are not interchangeable. The four O'odham Indian tribes claim cultural affiliation to the Hohokam archeological cultures, as well as to all others present in their aboriginal claims area during the time before European contact in what is known today as Arizona and Mexico. These affiliations include several other archeological cultures including (but not limited to) the Archaic, Paleo-Indian, Salado, Patayan, and Sinagua.

A written report, “The Four Southern Tribes and the Hohokam of the Phoenix Basin,” provided to the museum by the Salt River Pima-Maricopa Indian Community provides a preponderance of evidence for a relationship of shared group identity between the Hohokam culture and the present-day O'odham. The evidence in the report is archeological, linguistic, oral tradition, ethnography, kinship, and biological. Linguistic evidence indicates that all the O'odham speak different dialects of the same Uto-Aztecan language. O'odham communities were historically recorded as living in the Gila River area by Jesuit missionaries in A.D. 1687. In the 1700s, when written records about the O'odam began, they occupied at least seven rancherias. At the time of European contact, the O'odham, who occupied land previously inhabited by the Hohokam, mirrored the Hohokam in many ways. The Hohokam were desert agriculturalists who developed an elaborate system of irrigation canals to irrigate their crops. At European contact the O'odham were documented to also be desert agriculturalist who utilized irrigation canals and rivers. Based on scientific evidence, scholars view the complex irrigation systems of the O'odham and the Hohokam as evidence for a cultural continuity between the two that involved the ability to control mass labor in order to construct and maintain these canals. The Hohokam had a distinct settlement pattern that consisted of small farmsteads scattered throughout the landscape. The O'odham practiced this same type of settlement pattern. There was a general architectural style through the Hohokam Period to the historic O'odham Period that exhibited a trend from quadrangular to round structures through time.

A relationship of shared group identity can also reasonably be traced between Hohokam culture and the Hopi Tribe, as well as the Zuni Tribe. Based on O'odham oral tradition, some of the people occupying the Hohokam area migrated north and joined the Zuni and Hopi (“The Four Southern Tribes and the Hohokam of the Phoenix Basin”). On May 23, 1994, the Hopi Tribal Council issued Resolution H-70-94 declaring its formal cultural affinity and affiliation with the Hohokam cultural group. On June 26, 2006, official representatives of the Hopi Tribe restated Hopi's shared group identity with Hohokam culture. On July 11, 1995, the Zuni Tribe issued a “Statement of Cultural Affiliation with Prehistoric and Historic Cultures.” In the statement, the Zuni Tribe stated a relationship of shared group identity with Hohokam culture based on oral teachings and traditions, ethnohistoric documentation, historic documentation, archeological documentation, and other evidence. On June 19, 2006, official representatives of the Zuni Tribe described migration routes which may cross the Hohokam occupation area.

Officials of the Robert S. Peabody Museum of Archaeology have determined that, pursuant to 25 U.S.C. 3001 (9-10), the human remains described above represent the physical remains of eight individuals of Native American ancestry. Officials of the Robert S. Peabody Museum of Archaeology also have determined that, pursuant to 25 U.S.C. 3001 (3)(A), the 181 objects described above are reasonably believed to have been placed with or near individual human remains at the time of death or later as part of the death rite or ceremony. Lastly, officials of the Robert S. Peabody Museum of Archaeology also have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact Malinda Blustain, Director, Robert S. Peabody Museum of Archaeology, Phillips Academy, 175 Main Street, Andover, MA 01810, telephone (978) 749-4493, before June 30, 2008. Repatriation of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The Robert S. Peabody Museum of Archaeology is responsible for notifying the Ak Chin Indian Community of the Maricopa (Ak Chin) Indian Reservation, Arizona; Gila River Indian Community of the Gila River Indian Reservation, Arizona; Hopi Tribe of Arizona; Navajo Nation of Arizona, New Mexico & Utah; Salt River Pima-Maricopa Indian Community of the Salt River Reservation, Arizona; Tohono O'odham Nation of Arizona; and Zuni Tribe of the Zuni Reservation, New Mexico that this notice has been published.

Dated: April 24, 2008
Sherry Hutt,
Manager, National NAGPRA Program.

[FR Doc. E8-12002 Filed 5-28-08; 8:45 am]

BILLING CODE 4312-50-S